DEPARTMENT OF TRANSPORTATION

Federal Aviation Administration

14 CFR Part 21

[Docket No. FAA-2018-0860]

Proposed Primary Category Design Standards; Vertical Aviation Technologies (VAT) Model S-52L Rotorcraft

AGENCY: Federal Aviation Administration, DOT.

ACTION: Notice shortening comment period.

SUMMARY: This action shortens the comment period for the notice of availability; request for comments that was published on September 26, 2018. In that document, the FAA announced the existence of and requested comments on the proposed airworthiness design standards for acceptance of the Vertical Aviation Technologies (VAT) Model S-52L rotorcraft under the regulations for primary category aircraft.

DATES: The comment period for the document published September 26, 2018, at 83 FR 48574, is shortened. Comments must be received on or before October 26, 2018.

ADDRESSES: Send comments to the Federal Aviation Administration, Policy and Innovation Division, Rotorcraft Standards Branch, AIR-681, Attention: Michael Hughlett, 10101 Hillwood Parkway, Ft. Worth, Texas 76117. Comments may also be emailed to: Michael.Hughlett@faa.gov.

FOR FURTHER INFORMATION CONTACT: Michael Hughlett, Aviation Safety Engineer, Rotorcraft Standards Branch, Policy and Innovation Division, FAA, 10101 Hillwood Pkwy., Fort Worth, Texas 76177; telephone (817) 222-5110; email Michael.Hughlett@faa.gov.

SUPPLEMENTARY INFORMATION:

Comments Invited

The FAA invites interested parties to submit comments on the proposed airworthiness standards to the address specified above. Commenters must identify the VAT Model S-52L on all submitted correspondence. The most helpful comments reference a specific portion of the airworthiness standards, explain the reason for any recommended change, and include supporting data. The FAA will consider all comments received on or before the closing date before issuing the final acceptance. We will consider comments filed late if it is possible to do so without incurring expense or delay. We may change the proposed airworthiness standards based on received comments.

Background

On September 26, 2018, the FAA issued a notice of availability; request for comments, entitled “Proposed Primary Category Design Standards; Vertical Aviation Technologies (VAT) Model S-52L Rotorcraft” (83 FR 48574) (“notice of availability”). The notice of availability established a 60-day comment period.

The FAA finds that a 30-day comment period is sufficient for the public to analyze and provide meaningful comment to notice of availability. The date by which to file comments is therefore shortened from November 26, 2018, to October 26, 2018. The FAA does not anticipate any further action to be taken regarding this comment period.

Shortening of Comment Period

Accordingly, the comment period for the notice of availability has been shortened to close on October 26, 2018.

Issued in Ft Worth, Texas, on September 27, 2018.
Jorge Castillo,
Acting Manager, Rotorcraft Standards Branch, Policy and Innovation Division, Aircraft Certification Service.

[FR Doc. 2018-21661 Filed 10-5-18; 8:45 am]

BILLING CODE 4910-13-P